DEPARTMENT OF HOMELAND SECURITY

Customs and Border Protection

DEPARTMENT OF THE TREASURY

19 CFR Part 10

[CBP Dec. 03-10]

RIN 1515-AD27

Refund of Duties Paid on Imports of Certain Wool Products

AGENCY: Customs and Border Protection, Department of Homeland Security.

ACTION: Final rule.

SUMMARY: This document amends the Customs Regulations by removing the regulation originally promulgated to provide procedures for the issuance of the refunds of duties paid on certain wool imports pursuant to section 505 of title V of the Trade and Development Act of 2000. As section 5101 of the Trade Act of 2002 significantly amended section 505 and provides self-effectuating procedures for the issuance of the refunds, the regulation implementing section 505 is no longer necessary and is obsolete.

DATES: The amendment is effective July 24, 2003.

FOR FURTHER INFORMATION CONTACT: Suzanne Kingsbury, Regulations Branch, Office of Regulations and Rulings, Customs and Border Protection, 1300 Pennsylvania Avenue, NW., Washington, DC 20229, Tel. (202) 572-8763.

SUPPLEMENTARY INFORMATION:

Background

On May 18, 2000, the Trade and Development Act of 2000 was signed into law. See Public Law 106-200, 114 Stat. 251. Title V of the Act concerns imports of certain wool articles and sets forth provisions intended to provide tariff relief to U.S. manufacturers of specific wool products. Within title V, section 505 permits eligible U.S. manufacturers to claim a limited refund of duties paid on imports of select wool articles.

On December 26, 2000, Customs (now the Bureau of Customs and Border Protection (CBP)) promulgated in § 10.184, Customs Regulations (19 CFR 10.184), a regulation to provide the procedures for issuing refunds pursuant to section 505. See 65 FR 81344. This section was subsequently amended by documents published in the Federal Register on April 23, 2001 (66 FR 20392), and January 23, 2002 (67 FR 3059).

On August 6, 2002, President Bush signed into law the Trade Act of 2002. Division E of the Trade Act of 2002 contains miscellaneous provisions. Within Division E, title L sets forth miscellaneous trade benefits with subtitle A pertaining specifically to wool provisions. Within subtitle A, section 5101, entitled the “Wool Manufacturer Payment Clarification and Technical Corrections Act,” amends section 505.

The amendments to section 505 are extensive and self-effectuating, making § 10.184 of the Customs Regulations unnecessary and obsolete. For this reason, part 10 of the Customs Regulations is amended by removing § 10.184.

It is noted that a document was published in the Federal Register (67 FR 52520) on August 12, 2002, that set forth section 505 of the Trade Act of 2002, as amended, with its self-effectuating procedures, and provided a detailed description of the changes to the wool duty payment program.

Executive Order 12866, Regulatory Flexibility Act, Inapplicability of Prior Public Notice and Comment Procedures and Delayed Effective Date Requirements

This document does not meet the criteria for a “significant regulatory action” as specified in Executive Order 12866. Because this amendment merely removes from the Customs Regulations a regulation which is now obsolete, CBP has determined, pursuant to the provisions of 5 U.S.C. 553(b)(B), that prior public notice and comment procedures on this regulation are unnecessary and contrary to the public interest. For the same reason, pursuant to the provisions of 5 U.S.C. 553(d)(3), there is good cause for dispensing with a delayed effective date. Because no notice of proposed rulemaking is required, this document is not subject to the provisions of the Regulatory Flexibility Act (5 U.S.C. 601 et seq.).

Drafting Information

The principal author of this document was Ms. Suzanne Kingsbury, Regulations Branch, Office of Regulations and Rulings, CBP.

List of Subjects in 19 CFR Part 10

Customs duties and inspection, Imports, Reporting and recordkeeping requirements, Trade agreements.

Amendments to the Regulations

For the reasons stated above, 19 CFR part 10 is amended as follows:

PART 10—ARTICLES CONDITIONALLY FREE, SUBJECT TO A REDUCED RATE, ETC.

1. The general authority citation for part 10 continues to read as follows, and the specific authority for § 10.184 is removed:

Authority: 19 U.S.C. 66, 1202 (General Note 23, Harmonized Tariff Schedule of the United States), 1321, 1481, 1484, 1498, 1508, 1623, 1624, 3314.

* * * * *

2. The center heading preceding § 10.184 and § 10.184 are removed.

Robert C. Bonner,
Commissioner of Customs and Border Protection.
Approved: July 21, 2003.
Timothy E. Skud,
Deputy Assistant Secretary of the Treasury.

[FR Doc. 03-18839 Filed 7-23-03; 8:45 am]

BILLING CODE 4820-02-P